DEPARTMENT OF LABOR

Employment and Training Administration

[TA-W-80,430]

Product Dynamics LTD, Levittown, PA; Notice of Affirmative Determination Regarding Application for Reconsideration

By application dated September 28, 2011, a petitioner requested administrative reconsideration of the negative determination regarding workers' eligibility to apply for Trade Adjustment Assistance (TAA) applicable to workers and former workers of Product Dynamics, LTD, Levittown, Pennsylvania (Product Dynamics). The negative determination was issued on September 14, 2011. The Department's Notice of Determination will soon be published in the Federal Register.

The negative determination was based on the Department's findings that the subject firm did not produce an article. Further, the investigation revealed that the subject firm is not a Supplier or Downstream Producer to a firm that employed a group of workers who received a certification of eligibility under Section 222(a) of the Act, 19 U.S.C. 2272(a).

In the request for reconsideration, the petitioner alleges that workers at Product Dynamics are engaged in activities related to the production of toy prototypes (stating that workers “machine, fabricate and sculpt various items to create prototype models, samples and patterns.”)

The Department has carefully reviewed the petitioner's request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 3rd day of October, 2011.
Del Min Amy Chen,
Certifying Officer, Office of Trade Adjustment Assistance.

[FR Doc. 2011-27158 Filed 10-19-11; 8:45 am]

BILLING CODE 4510-FN-P